DEPARTMENT OF HEALTH AND HUMAN SERVICES

Centers for Medicare & Medicaid Services

[Document Identifiers: CMS-10553, CMS-10554, CMS-10856 and CMS-R-305]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by October 27, 2023.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10553 Medicaid Managed Care Quality including Supporting Regulations.

CMS-10554 Children's Health Insurance Program Managed Care and Supporting Regulations.

CMS-10856 Medicaid Managed Care and Supporting Regulations.

CMS-R-305 External Quality Review (EQR) of Medicaid and Children's Health Insurance Program (CHIP) Managed Care, EQR Protocols, and Supporting Regulations.

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Revision of a currently approved collection; Title of Information Collection: Medicaid Managed Care Quality including Supporting Regulations; Use: States are required to develop quality strategies and quality strategy effectiveness evaluations. States use the information from these documents to help monitor and assess the performance of their Medicaid managed care programs. When developing these documents, States must engage stakeholders and make the documents available for public comment. Medicaid beneficiaries and stakeholders use the reported information to understand the state's quality improvement goals and objectives, and to understand how the state is measuring progress of its goals. States must submit these documents to CMS for review at least once every three years, or when substantial changes are made to their quality strategies, or State Medicaid programs. CMS uses this information as a part of its oversight responsibilities. The Medicaid and CHIP (MAC) QRS requirements currently include public posting of quality ratings on the State's website, which is intended to provide beneficiaries and their caregivers with a web-based interface to compare Medicaid and CHIP managed care plans based on assigned ratings. Form Number: CMS-10553 (OMB control number: 0938-1281); Frequency: Annually, triennial, and one-time.; Affected Public: Private sector (business or other for-profits) and State, local or Tribal governments; Number of Respondents: 673; Number of Responses: 6,087; Total Annual Hours: 1,441,211. (For policy questions regarding this collection contact Carlye Burd at 720-853-2780.)

2. Type of Information Collection Request: Revision of a currently approved collection; Title of Information Collection: Children's Health Insurance Program Managed Care and Supporting Regulations; Use: States must provide information obtained through methods consistent with the Protocols specified by CMS to External Quality Review Organization (EQRO). States must post the EQR technical reports on their websites to help enrollees and potential enrollees make informed choices when selecting providers. It also gives advocacy organizations, researchers, and other interested parties access to information pertaining to: the quality of care provided to beneficiaries enrolled in CHIP managed care organizations (MCO), prepaid inpatient health plans (PIHP), and prepaid ambulatory health plans (PAHP). The quality ratings system (QRS) provides beneficiaries with information that allows them to make an informed choice when comparing and selecting managed care plans. The information also provides a better understanding of the state's quality improvement goals and objectives, and how the state is measuring the progress of its goals. The information may assist states in comparing the outcomes of different delivery systems and can assist them in identifying future performance improvement subjects. Form Number: CMS-10554 (OMB control number: 0938-1282); Frequency: Annually and one-time; Affected Public: Private sector (business or other for-profits and not-for-profit institutions) and State, local, and Tribal governments; Number of Respondents: 62; Number of Responses: 2,735,906; Total Annual Hours: 365,310. (For policy questions regarding this collection contact Joshua Bougie at 410-786-8117.)

3. Type of Information Collection Request: New; Title of Information Collection: Medicaid Managed Care and Supporting Regulations; Use: Provides reporting and third-party disclosure requirements pertaining to State program administration and CMS compliance monitoring. Form Number: CMS-10856 (OMB control number: 0938-TBD); Frequency: Annually and one-time; Affected Public: Private sector (business or other for-profits) and State, local or Tribal governments; Number of Respondents: 679; Number of Responses: 14,313; Total Annual Hours: 255,384. (For policy questions regarding this collection contact Amy Gentile at 410-786-3499.)

4. Type of Information Collection Request: Revision of a currently approved collection; Title of Information Collection: External Quality Review (EQR) of Medicaid and Children's Health Insurance Program (CHIP) Managed Care, EQR Protocols, and Supporting Regulations; Use: Most contracts between a state Medicaid agency and their managed care plan must provide for an annual External Quality Review (EQR). The annual EQR is conducted by an independent external quality review organization (EQRO). States must provide the EQRO with information obtained through methods consistent with the protocols specified by CMS. The information is used by the EQRO to determine the quality of care furnished by the managed care plans in the state. The publicly posted EQR results allows Medicaid/CHIP enrollees and potential enrollees to make informed choices regarding the selection of their providers. It also provides advocacy organizations, researchers, and other interested parties access to information on the quality of care provided to Medicaid beneficiaries enrolled in Medicaid/CHIP managed care. States use the information during their oversight of these organizations. Form Number: CMS-R-305 (OMB control number: 0938-0786); Frequency: Annually and one-time; Affected Public: Private sector (business or other for-profits) and State, local or Tribal governments; Number of Respondents: 698; Number of Responses: 10,249; Total Annual Hours: 483,784. (For policy questions regarding this collection contact Carlye Burd at 720-853-2780.)

Dated: August 23, 2023.
William N. Parham, III,
Director, Paperwork Reduction Staff, Office of Strategic Operations and Regulatory Affairs.

[FR Doc. 2023-18520 Filed 8-25-23; 8:45 am]

BILLING CODE 4120-01-P